DEPARTMENT OF COMMERCE

Bureau of Industry and Security

15 CFR Part 774

[Docket No. 021108271-2271-01]

RIN 0694-AC72

Corrections to Rule Entitled: Missile Technology Production Equipment and Facilities

AGENCY: Bureau of Industry and Security, Commerce.

ACTION: Final rule; correction.

SUMMARY: On September 18, 2002, the Bureau of Industry and Security (BIS) published a final rule clarifying that all missile technology (MT) production equipment and facilities are controlled on the Commerce Control List. This rule corrects errors in the List of Items Controlled sections.

DATES: This rule is effective November 21, 2002.

FOR FURTHER INFORMATION CONTACT: Matthew Blaskovich in the Office of Exporter Services, Bureau of Industry and Security, at (202) 482-2440.

SUPPLEMENTARY INFORMATION: This document corrects two errors in the List of Items Controlled sections for Export Controlled Classification Numbers (ECCNs) 9B115 and 9B116, which were revised in a final rule that was published by the Bureau of Industry and Security (BIS) on September 18, 2002 (67 FR 58691).

The SUPPLEMENTARY INFORMATION section of the September 18, 2002 rule stated that BIS was revising the headings for ECCNs 9B115 and 9B116 and adding a List of Items Controlled section to those ECCNs to clarify that all missile technology production equipment and facilities are subject to the Export Administration Regulations (EAR) and controlled on the Commerce Control List (CCL). The September 18, 2002 rule inadvertently omitted ECCN 9A011 from the List of Items Controlled sections of ECCNs 9B115 and 9B116, although it appears in the headings of those ECCNs. This document corrects that oversight.

In addition, this rule corrects for an inadvertent omission by adding the “Related Definitions” paragraph for these respective ECCNs.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule involves a collection of information subject to the Paperwork Reduction Act of 1980 (44 U.S.C. 3501 et seq.). This collection has been approved by the Office of Management and Budget under control number 0694-0088, “Multi-Purpose Application,” which carries a burden hour estimate of 45 minutes for a manual submission and 40 minutes for an electronic submission.

3. This rule does not contain policies with Federalism implications as this term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this interim rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Matthew Blaskovich, Office of Exporter Services, Bureau of Industry and Security, Department of Commerce, P.O. Box 273, Washington, DC 20044, or mblaskov@bis.doc.gov. Accordingly, in the final rule FR Doc. 02-23716 (Doc. 020830206-2206-01) published at 67 FR 58691, make the following corrections:

PART 774—[CORRECTED]

Supplement No. 1 to Part 774—[Corrected]

1. On page 58692, third column, in the List of Items Controlled for ECCN 9B115, the following paragraphs are corrected to read as follows:

9B115 Specially designed “production equipment” for the systems, sub-systems and components controlled by 9A004 to 9A009, 9A011, 9A101, 9A104 to 9A109, 9A111, 9A116 to 9A119.

* * * * *

List of Items Controlled

Unit: * * *.

Related Controls: Although items described in ECCNs 9A004 to 9A009, 9A011, 9A101, 9A104 to 9A109; 9A111, 9A116 to 9A119 are subject to the export licensing authority of the Department of State, Office of Defense Trade Controls (22 CFR part 121), the “production equipment” controlled in this entry that is related to these items is subject to the export licensing authority of BIS.

Related Definitions: NA.

Items: The list of items controlled is contained in the ECCN heading.

2. On page 58692, third column, in the List of Items Controlled for ECCN 9B116, the following paragraphs are corrected to read as follows:

9B116 Specially designed “production facilities” for the systems, sub-systems, and components controlled by 9A004 to 9A009, 9A011, 9A101, 9A104 to 9A109, 9A111, 9A116 to 9A119.

* * * * *

List of Items Controlled

Unit: * * *.

Related Controls: Although items described in ECCNs 9A004 to 9A009, 9A011, 9A101, 9A104 to 9A109; 9A111, 9A116 to 9A119 are subject to the export licensing authority of the Department of State, Office of Defense Trade Controls (22 CFR part 121), the “production equipment” controlled in this entry that is related to these items is subject to the export licensing authority of BIS.

Related Definitions: NA.

Items: The list of items controlled is contained in the ECCN heading.

Dated: November 14, 2002.
Eileen M. Albanese,
Director, Office of Exporter Services, Export Administration.

[FR Doc. 02-29512 Filed 11-20-02; 8:45 am]

BILLING CODE 3510-33-P